DEPARTMENT OF ENERGY

Federal Energy Regulatory Commission

[Docket No. CP01-175-000]

Northern Natural Gas Company; Notice of Application

April 26, 2001.

On April 23, 2001, Northern Natural Gas Company (Northern), 1111 South 103rd Street, Omaha, Nebraska 68124, filed an application in Docket No. CP01-175-000 pursuant to Section 7(b) of the Natural Gas Act (NGA) and Section 157.18 of the Commission's Regulations for permission and approval to abandon, in-place five (5) 1,400 horsepower horizontal compressor units at the Mullinville compressor station, with appurtenances, located in Kiowa County, Kansas, all as more fully set forth in the application which is on file with the Commission and open to public inspection. The filing may be viewed at http://www.ferc.fed.us/online/rims.htm (call 202-208-2222 for assistance).

Northern states the horizontal compressor units at its Mullinville compressor station proposed to be abandoned in the instant application are not longer needed due to changes in the operating configuration of its system since the units were initially installed. Northern states that the horizontal compressor units were installed pursuant to authorization received by order issued April 6, 1943 in Docket No. G-280.¹ Northern states the units have not been operated in recent years due to changes in the operating configuration; and that, the subject horizontal units are obsolete and parts to repair these units are not readily available. Northern states that the remaining units at the Mullinville compressor station provide the necessary compression service to meet Northern's current firm service obligations; and that, Northern's facilities downstream of the Mullinville compressor station currently operate at or near the maximum operating pressures without the subject horizontal units. At this time, Northern proposes to abandon these units in-place. However, Northern intends to utilize parts from these units in the future to repair other units located elsewhere on its system as the need may arise.²

¹ Northern Natural Gas Company, 3 F.P.C. 967 (1943).

² The unit or parts of the unit, once abandoned, may be salvaged rather than utilized elsewhere on Northern's pipeline system. At this time, Northern does not anticipate there is any specific value that can be attributed to these units. Therefore, Exhibit Y attached hereto reflects a salvage value of zero.

Northern asserts that the abandonment of these facilities will not result in the abandonment of service to any of Northern's existing shippers, nor will the proposed abandonment adversely affect capacity since the compression is no longer needed to meet current firm service obligations. Northern also asserts minimal environmental impact.

Any questions regarding this application should be directed to Keith L. Petersen, Director, Certificates and Reporting for Northern, 1111 South 103rd Street, Omaha, Nebraska 68124, at (402) 398-7421 or Bret Fritch, Senior Regulatory Analyst, at (402) 398-7140.

There are two ways to become involved in the Commission's review of this abandonment. First, any person wishing to obtain legal status by becoming a party to the proceedings for this abandonment should, on or before May 17, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Also, comments, protests, and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying abandonment will be issued.

David P. Boergers,
Secretary.

[FR Doc. 01-10908 Filed 5-1-01; 8:45 am]

BILLING CODE 6717-01-M